DEPARTMENT OF ENERGY

Federal Energy Regulatory Commission

[Docket No. CP01-260-000]

Columbia Gas Transmission Corporation; Notice of Intent To Prepare an Environmental Assessment for the Proposed Columbia Line 10357 Project and Request for Comments on Environmental Issues

May 21, 2001.

The staff of the Federal Energy Regulatory Commission (FERC or Commission) will prepare an environmental assessment (EA) that will discuss the environmental impacts of the Columbia Line 10357 Project involving construction and operation of facilities by Columbia Gas Transmission Corporation (Columbia) in New Castle County, Delaware, and Delaware and Chester Counties, Pennsylvania.¹ These facilities would consist of about 1.37 miles of pipeline and 12,000 horsepower (hp) of compression. This EA will be used by the Commission in its decision-making process to determine whether the project is in the public convenience and necessity.

¹ Columbia's application was filed with the Commission under section 7 of the Natural Gas Act and Part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Columbia provided to landowners. This fact sheet addresses a number of typically asked questions, including the use of eminent domain and how to participate in the Commission's proceedings. It is available for viewing on the FERC Internet website (www.ferc.fed.us).

Summary of the Proposed Project

Columbia wants to expand the capacity of its facilities in Delaware and Pennsylvania to transport an additional 125,000 million British thermal units per day of natural gas to a planned FPL Energy Marcus Hook, L.P. 750-megawatt electric generating power plant to be built in the both New Castle County, Delaware and Delaware County, Pennsylvania. Columbia seeks authority to:

• Construct 1.3 miles of 20-inch pipeline to be located in New Castle County, Delaware and Delaware County, Pennsylvania.

• Construct a 6,000 hp electric driven compressor unit at existing Eagle Compressor Station located in Chester County, Pennsylvania.

• Construct a 6,000 hp electric driven compressor unit at existing Downingtown Compressor Station located in Chester County, Pennsylvania.

• Construct a new M&R Station on FPL Energy Marcus Hook Power Plant property to be located in Delaware County, Pennsylvania.

• Abandon two 1,250 hp compressor units at Downingtown Compressor Station.

Also, Philadelphia Electric Company (PECO) would make minor modifications to its existing electricity delivery system at the Eagle and Downingtown Compressor Station locations. PECO would feed the Downingtown substation off of an existing powerline. One pole would be installed within the Downingtown Compressor Station lot to facilitate bringing the tie-in line into the substation. In addition, PECO would install a new line from its existing Crombie substation in Chester County, Pennsylvania to the Eagle Compressor Station. The new line would be installed on a combination of new and existing poles, and would be entirely within existing PECO rights-of-way. No new electric rights-of-way would be required.

The exact locations of the project facilities are shown on maps in appendix 1.²

² The appendices referenced in this notice are not being printed in Federal Register. Copies are available on the Commission's website at the “RIMS” link or from the Commission's Public Reference and Files Maintenance Branch, 888 First Street, NE., Washington, DC 20426, or call (202) 208-1371. For instructions on connecting to RIMS refer to the last page of this notice. Copies of the appendices were sent to all those receiving this notice in the mail.

Land Requirement for Construction

Construction of the proposed facilities would require about 34.3 acres of land. Following construction, about 21.1 acres would be maintained as new aboveground facility sits. The remaining 13.2 acres of land would be restored and allowed to revert to its former use.

The EA Process

The National Environmental Policy Act (NEPA) requires Commission to take into account the environmental impacts that could result from an action whenever it considers the issuance of a Certificate of Public Convenience and Necessity. NEPA also requires us ³ to discover and address concerns the public may have about proposals. We call this “scoping”. The main goal of the scooping process is to focus the analysis in the EA on the important environmental issues. By this Notice of Intent, the Commission requests public comments on the scope of the issues it will address in the EA. All comments received are considered during the preparation of the EA. State and local government representatives are encouraged to notify their constituents of this proposed action and encourage them to comment on their areas of concern.

³ “We”, “us”, and “our” refer to the environmental staff of the Office of Energy Projects (OEP).

The EA will discuss impacts that could occur as a result of the construction and operation of the proposed project under these general headings:

• Geology and soils

• Land use

• Water resources

• Cultural resources

• Vegetation and wildlife

• Air quality and noise

• Endangered and threatened species

• Hazardous waste

• Public safety

We will not discuss impacts to the following resource areas since they are not present in the project area, or would not be affected by the proposed facilities.

• Fisheries and wetlands

We will also evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

Currently Identified Environmental Issues

We have already identified an issue that we think deserves attention based on a preliminary review of the proposed facilities and the environmental information provided by Columbia and FPL Energy Marcus Hook, L.P. This preliminary issue may be changed based on your comments and our analysis.

• There may be changes in noise impacts from the compressor unit additions at the existing compressor stations. We have not identified any other significant environmental issues.

Also, we have made a preliminary decision to not address the impacts of the FPL Energy Marcus Hook, L.P. nonjurisdictional cogeneration plant facilities. We will briefly described its location and status in the EA.

Public Participation

You can make a difference by providing us with your specific comments or concerns about the project. By becoming a commentar, your concerns will be addressed in the EA and considered by the Commission. You should focus on the potential environmental effects of the proposal, alternatives to the proposal (including alternative locations/routes), and measures to avoid or lessen environmental impact. The more specific your comments, the more useful they will be. Please carefully follow these instructions to ensure that your comments are received in time and properly recorded:

• Send an original and two copies of your letter to: David P. Boergers, Secretary, Federal Energy Regulatory Commission, 888 First St., NE., Room 1A, Washington, DC 20426.

• Label one copy of the comments for the attention of Gas 2.

• Reference Docket No. CP01-260-000.

• Mail your comments so that they will be received in Washington, DC on or before June 20, 2001.

Comments, protests and interventions may also be filed electronically via the Internet in lieu of paper. See 18 CFR 385.2001(a)(1)(iii) and the instruction on the Commission's web site at http://www.ferc.fed.us/efi/doorbell.htm under the link to the User's Guide. Before you can file comments you will need to create an account which can be created by clicking on “Login to File” and then “New User Account.”

We may issue the EA for comment. If you are interested in receiving it, please return the Information Request (appendix 3). If you do not return the Information Request, you will be taken off the mailing list.

Becoming an Intervenor

In addition to involvement in the EA scoping process, you may want to become an official party to the processing known as an “intervenor.” Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2).⁴ Only intervenors have the right to seek rehearing of the Commission's decision.

⁴ Interventions may also filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Additional information about the proposed project is available from the Commission's Office of External Affairs at (202) 208-1088 or on the FERC website (www.ferc.fed.us) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “DOCKET #” from the CIPS menu, and follow the instructions. For assistance with access to CIPS, the CIPS helpline can be reached at (202) 208-2474.

David P. Boergers,
Secretary.

[FR Doc. 01-13218 Filed 5-24-01; 8:45 am]

BILLING CODE 6717-01-M